SMALL BUSINESS ADMINISTRATION

Reporting and Recordkeeping Requirements Under OMB Review

AGENCY: Small Business Administration.

ACTION: Notice of 30-day reporting requirements submitted for OMB review.

SUMMARY: Under the provisions of the Paperwork Reduction Act (44 U.S.C. Chapter 35), agencies are required to submit proposed reporting and recordkeeping requirements to OMB for review and approval, and to publish a notice in the Federal Register notifying the public that the agency has made such a submission. This notice complies with that requirement and provides an additional 30 days for the public to comment on the information collection.

DATES: Submit comments on or before February 20, 2014. If you intend to comment but cannot prepare comments promptly, please advise the OMB Reviewer and the Agency Clearance Officer before the deadline.

Copies: Request for clearance (OMB 83-1), supporting statement, and other documents submitted to OMB for review may be obtained from the Agency Clearance Officer.

ADDRESSES: Address all comments concerning this notice to: Agency Clearance Officer, Curtis Rich, Small Business Administration, 409 3rd Street SW., 5th Floor, Washington, DC 20416; and OMB Reviewer, Office of Information and Regulatory Affairs, Office of Management and Budget, New Executive Office Building, Washington, DC 20503.

FOR FURTHER INFORMATION CONTACT: Curtis Rich, Agency Clearance Officer, (202) 205-7030, curtis.rich@sba.gov.

Abstract: Small businesses seeking financing from specialized small business investment companies (SSBICs) are required to provide the requested information to the SSBIC in support of their eligibility for such financing based on their ownership by individuals who are either socially or economically disadvantaged, as defined in 13 CFR 124.103. Written certification of eligibility is required by section 308(h) of the Small Business Investment Act of 1958, as amended. The information is retained by the SSBIC but is reviewed periodically by an SBA examiner as part of his/her on-site examination of the SSBIC, which is required by statute to occur at least biennially (15 U.S.C. Section 687b(c)).

SUPPLEMENTARY INFORMATION:

Title: Financing Eligibility Statement—Social Disadvantage/Economic: Disadvantage.

Frequency: On Occasion.

SBA Form Numbers: 1941 A, B, C.

Description of Respondents: Small Business Investment Companies and Small Businesses.

Responses: 50.

Annual Burden: 100.

Yvonne K. Wilson,
Chief, Records Management Division.

[FR Doc. 2014-01064 Filed 1-17-14; 8:45 am]

BILLING CODE P